ENVIRONMENTAL PROTECTION AGENCY

40 CFR Part 52

[EPA-R10-OAR-2020-0108; FRL-10009-59-Region 10]

Air Plan Approval; Washington; Northwest Clean Air Agency

AGENCY: Environmental Protection Agency (EPA).

ACTION: Final rule.

SUMMARY: The Environmental Protection Agency (EPA) is approving revisions to the Washington State Implementation Plan (SIP) that were submitted by the Washington Department of Ecology (Ecology) in coordination with the Northwest Clean Air Agency (NWCAA). This revision updates certain NWCAA regulations currently in the SIP, removes obsolete regulations, and approves a subset of updated Ecology regulations to apply in NWCAA's jurisdiction.

DATES: This final rule is effective July 15, 2020.

ADDRESSES: The EPA has established a docket for this action under Docket ID No. EPA-R10-OAR-2020-0108. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jeff Hunt, EPA Region 10, 1200 Sixth Avenue—Suite 155, Seattle, WA 98101, at (206) 553-0256, or hunt.jeff@epa.gov.

SUPPLEMENTARY INFORMATION: Throughout this document, wherever “we,” “us,” or “our” is used, it means the EPA.

I. Background

On March 24, 2020, we proposed to approve updates to certain NWCAA regulations currently in the SIP, remove obsolete regulations, and approve a subset of updated Ecology regulations to apply in NWCAA's jurisdiction (85 FR 16599). The reasons for our proposed approval were stated in the proposed rule and will not be re-stated here. The public comment period for our proposed action ended on April 23, 2020. We received no comments. Therefore, we are finalizing our action as proposed.

II. Final Action

A. Regulations Approved and Incorporated by Reference Into the SIP

The EPA is approving and incorporating by reference into the Washington SIP at 40 CFR 52.2470(c)—Table 5—Additional Regulations Approved for the Northwest Clean Air Agency (NWCAA) Jurisdiction, the following NWCAA regulatory sections (effective date):

• 100 (8/21/2005), 101 (8/21/2005), 102 (8/21/2005), 200 (5/12/2019), 300 (5/12/2019), 305 (5/12/2019), 320 (5/12/2019), and 321 (05/12/2019).

The EPA is also approving and incorporating by reference the following Chapter 173-400 Washington Administrative Code (WAC) sections submitted for approval to apply within NWCAA's jurisdiction (effective date):

• 173-400-020 (12/29/2012), 173-400-025 (9/16/2018), 173-400-030 (9/16/2018), 173-400-050 (09/16/2018), 173-400-060 (11/25/2018), 173-400-091 (4/1/2011), 173-400-111 (7/1/2016), 173-400-112 (12/29/2012), 173-400-113 (12/29/2012), 173-400-117 (12/29/2012), 173-400-118 (12/29/2012), 173-400-131 (04/1/2011), 173-400-136 (12/29/2012), 173-400-151 (2/10/2005), 173-400-171 (9/16/2018), 173-400-200 (2/10/2005), 173-400-800 (4/1/2011), 173-400-810 (7/1/2016), 173-400-820 (12/29/2012), 173-400-830 (7/1/2016), 173-400-840 (7/1/2016), 173-400-850 (7/1/2016), and 173-400-860 (4/1/2011).

Please see the amendatory text for more detailed information about the provisions submitted and approved in this action, including local agency corollaries which replace certain Chapter 173-400 WAC provisions and exclusions to our approval.

B. Approved But Not Incorporated by Reference Regulations

In addition to the regulations approved and incorporated by reference above in section II of this preamble, the EPA reviews and approves state and local clean air agency submissions to ensure they provide adequate enforcement authority and other general authority to implement and enforce the SIP. However, regulations describing such agency enforcement and other general authority are generally not incorporated by reference so as to avoid potential conflict with the EPA's independent authorities. Therefore, we are approving the following updates to NWCAA's general provisions for inclusion in 40 CFR 52.2470(e), Table 1—Approved but Not Incorporated by Reference Regulations: 103, 105, 110, 111, 112, 113, 114, 120, 123, 124, 131, 132, 133, 134, 135, and 303. We are also removing prior references to these provisions from 40 CFR 52.2470(c) because they are now included in 40 CFR 52.2470(e).

C. Regulations To Remove From the SIP

As discussed in the proposal for this action, we are removing from the SIP sections: 104, 106, 122, 130, 140, 145, 301, 302, 310, 322, 323, 400, 401, 410, 420, 422, and 424. We are also removing from the SIP any formerly approved WAC provisions which are replaced by local agency corollaries for facilities or actions subject to NWCAA's jurisdiction.

D. Scope of Proposed Action

This revision to the SIP applies specifically to the NWCAA jurisdiction incorporated into the SIP at 40 CFR 52.2470(c), Table 5. As discussed in our proposal, local air agency jurisdiction in Washington is generally defined on a geographic basis; however, there are exceptions. By statute, NWCAA does not have authority for sources under the jurisdiction of the Energy Facilities Site Evaluation Council (EFSEC). See Revised Code of Washington Chapter 80.50. Under the applicability provisions of WAC 173-405-012, 173-410-012, and 173-415-012, NWCAA also does not have jurisdiction for kraft pulp mills, sulfite pulping mills, and primary aluminum plants. For these sources, Ecology retains statewide, direct jurisdiction. Ecology and EFSEC also retain statewide, direct jurisdiction for issuing Prevention of Significant Deterioration (PSD) permits. Therefore, the EPA is not approving into 40 CFR 52.2470(c), Table 5, those provisions of Chapter 173-400 WAC related to the PSD program. Specifically, these provisions are WAC 173-400-116 and WAC 173-400-700 through 173-400-750, which the EPA has already approved as applying state-wide under 40 CFR 52.2470(c), Tables 2 and 3.

Also, as described in our proposal for this action, jurisdiction to implement the visibility permitting program contained in WAC 173-400-117 varies depending on the situation. Ecology and EFSEC retain authority to implement WAC 173-400-117 as it relates to PSD permits. However, for facilities subject to major nonattainment new source review (NSR) under the applicability provisions of WAC 173-400-800, we are approving NWCAA's implementation of those parts of WAC 173-400-117 as they relate to major nonattainment NSR permits. Therefore, we are modifying the visibility protection Federal Implementation Plan contained in 40 CFR 52.2498 to reflect the approval of WAC 173-400-117 as it applies to implementation of the major nonattainment NSR program in NWCAA's jurisdiction.

Lastly, this SIP revision is not approved to apply on any Indian reservation land in Washington and is also not approved to apply in any other area where the EPA or an Indian tribe has demonstrated that a tribe has jurisdiction. In those areas of Indian country, the rule does not have tribal implications and will not impose substantial direct costs on tribal governments or preempt tribal law as specified by Executive Order 13175 (65 FR 67249, November 9, 2000).

III. Incorporation by Reference

In this rule, the EPA is finalizing regulatory text that includes incorporation by reference. In accordance with requirements of 1 CFR 51.5, we are finalizing the incorporation by reference as described in sections II.A. and II.C. of this preamble. The EPA has made, and will continue to make, these materials generally available through https://www.regulations.gov and at the EPA Region 10 Office (please contact the person identified in the FOR FURTHER INFORMATION CONTACT section of this preamble for more information). Therefore, these materials have been approved by the EPA for inclusion in the SIP, have been incorporated by reference by the EPA into that plan, are fully federally-enforceable under sections 110 and 113 of the CAA as of the effective date of the final rulemaking of the EPA's approval, and will be incorporated by reference in the next update to the SIP compilation.¹

¹ 62 FR 27968 (May 22, 1997).

IV. Statutory and Executive Order Review

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because it does not address technical standards; and

• Does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 14, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 19, 2020.
Christopher Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart WW—Washington

2. Amend § 52.2470 by revising Table 5 of paragraph (c) and Table 1 of paragraph (e) to read as follows:

§ 52.2470 Identification of plan.

* * * * *

(c) * * *

Table 5—Additional Regulations Approved for the Northwest Clean Air Agency (NWCAA) Jurisdiction
[Applicable in Island, Skagit and Whatcom counties, excluding facilities subject to Energy Facilities Site Evaluation Council (EFSEC) jurisdiction; facilities subject to the Washington Department of Ecology's direct jurisdiction under Chapters 173-405, 173-410, and 173-415 Washington Administrative Code (WAC); Indian reservations; any other area where the EPA or an Indian tribe has demonstrated that a tribe has jurisdiction; and the Prevention of Significant Deterioration (PSD) permitting of facilities subject to the applicability sections of WAC 173-400-700.]
State/local citation | Title/subject | State/local effective date | EPA approval date | Explanations
Northwest Clean Air Agency Regulations
General Provisions
100 | Name of Agency | 8/21/05 | 6/15/20, [Insert Federal Register citation]
101 | Short Title | 8/21/05 | 6/15/20, [Insert Federal Register citation]
102 | Policy | 8/21/05 | 6/15/20, [Insert Federal Register citation] | Except provisions outside the scope of CAA section 110. Replaces WAC 173-400-010.
121 | Orders | 9/8/93 | 2/22/95, 60 FR 9778
150 | Pollutant Disclosure—Reporting by Air Containment Sources | 9/8/93 | 2/22/95, 60 FR 9778
180 | Sampling and Analytical Methods/References | 9/8/93 | 2/22/95, 60 FR 9778
Definitions
200 | Definitions | 5/12/19 | 6/15/20, [Insert Federal Register citation] | Except the definitions Toxic Air Pollutant, Odor, and Odor Source. Generally replaces WAC 173-400-030. However, for definitions not included in section 200, the WAC 173-400-030 definitions in the table below shall apply.
Control Procedures
300 | New Source Review | 5/12/19 | 6/15/20, [Insert Federal Register citation] | Except subsections 300.8(C), 300.25, or any provisions related to the regulation of Toxic Air Pollutants. Replaces WAC 173-400-036, 173-400-110, 173-400-111, 173-400-113, and 173-400-560, except certain subsections of WAC 173-400-111 and 173-400-113 listed in the table below.
305 | Public Involvement | 5/12/19 | 6/15/20, [Insert Federal Register citation] | Except provisions related to the regulation of Toxic Air Pollutants. Replaces WAC 173-400-171 and WAC 173-400-175, except subsection 173-400-171(6)(b).
320 | Registration Program | 5/12/19 | 6/15/20, [Insert Federal Register citation] | Except subsection 320.3 and provisions related to the regulation of Toxic Air Pollutants or odor.
321 | Exemptions from Registration | 5/12/19 | 6/15/20, [Insert Federal Register citation] | Except subsection 321.3.
324 | Fees | 11/13/94 | 10/24/95, 60 FR 54439 | Except section 324.121.
325 | Transfer | 9/8/93 | 2/22/95, 60 FR 9778
340 | Report of Breakdown and Upset | 11/13/94 | 10/24/95, 60 FR 54439
341 | Schedule Report of Shutdown or Start-Up | 9/8/93 | 2/22/95, 60 FR 9778
342 | Operation and Maintenance | 9/8/93 | 2/22/95, 60 FR 9778
360 | Testing and Sampling | 9/8/93 | 2/22/95, 60 FR 9778
365 | Monitoring | 9/8/93 | 2/22/95, 60 FR 9778
366 | Instrument Calibration | 9/8/93 | 2/22/95, 60 FR 9778
Standards
450 | Emission Standards—Forward | 9/8/93 | 2/22/95, 60 FR 9778
451 | Emission of Air Contaminant—Visual Standards | 11/13/94 | 10/24/95, 60 FR 54439
452 | Motor Vehicle Visual Standards | 9/8/93 | 2/22/95, 60 FR 9778 | Except section 452.5.
455 | Emission of Particulate Matter | 9/8/93 | 2/22/95, 60 FR 9778
458 | Incinerators—Wood Waste Burners | 9/8/93 | 2/22/95, 60 FR 9778
460 | Weight/Heat Rate Standard—Emission of Sulfur Compounds | 9/8/93 | 2/22/95, 60 FR 9778
462 | Emission of Sulfur Compounds | 11/13/94 | 10/24/95, 60 FR 54439
466 | Portland Cement Plants | 9/8/93 | 2/22/95, 60 FR 9778
Regulated Activities and Prohibitions
510 | Incinerator Burning | 9/8/93 | 2/22/95, 60 FR 9778
520 | Sulfur Compounds in Fuel | 9/8/93 | 2/22/95, 60 FR 9778
550 | Particulate Matter from Becoming Airborne | 9/8/93 | 2/22/95, 60 FR 9778
560 | Storage of Organic Liquids | 9/8/93 | 2/22/95, 60 FR 9778
580 | Volatile Organic Compound Control (VOC) | 11/13/94 | 10/24/95, 60 FR 54439
Washington Department of Ecology Regulations
Washington Administrative Code, Chapter 173-400—General Regulations for Air Pollution Sources
173-400-020 | Applicability | 12/29/12 | 6/15/20, [Insert Federal Register citation]
173-400-025 | Adoption of Federal Rules | 9/16/18 | 6/15/20, [Insert Federal Register citation] | Only as it applies to cross references in the WAC.
173-400-030 | Definitions | 9/16/18 | 6/15/20, [Insert Federal Register citation] | Except: 173-400-030(6); 173-400-030(32); 173-400-030(38); 173-400-030(45); 173-400-030(83); 173-400-030(89); 173-400-030(96); 173-400-030(97); 173-400-030(100); 173-400-030(103); 173-400-030(104); or any definition included in NWCAA section 200.
173-400-040 | General Standards for Maximum Emissions | 3/22/91 | 6/2/95, 60 FR 28726 | Except (1)(c), and (1)(d), (2), (4), and the 2nd paragraph of (6).
173-400-050 | Emission Standards for Combustion and Incineration Units | 9/16/18 | 6/15/20, [Insert Federal Register citation] | Except: 173-400-050(2); 173-400-050(4); 173-400-050(5); 173-400-050(6).
173-400-060 | Emission Standards for General Process Units | 11/25/18 | 6/15/20, [Insert Federal Register citation]
173-400-070 | Emission Standards for Certain Source Categories | 3/22/91 | 6/2/95, 60 FR 28726 | Except (7).
173-400-081 | Startup and Shutdown | 9/20/93 | 6/2/95, 60 FR 28726
173-400-091 | Voluntary Limits on Emissions | 4/1/11 | 6/15/20, [Insert Federal Register citation] | 9/20/93 version continues to be approved under the authority of CAA Section 112(l) with respect to Section 112 hazardous air pollutants. See the Federal Register of June 2, 1995.
173-400-105 | Records, Monitoring and Reporting | 9/20/93 | 6/2/95, 60 FR 28726
173-400-107 | Excess Emissions | 9/20/93 | 6/2/95, 60 FR 28726
173-400-111 | Processing Notice of Construction Applications for Sources, Stationary Sources and Portable Sources | 7/1/16 | 6/15/20, [Insert Federal Register citation] | Only subsections (1)(c), (1)(d), (5)(b), and (7)(b), otherwise NWCAA section 300 applies.
173-400-112 | Requirements for New Sources in Nonattainment Areas—Review for Compliance with Regulations | 12/29/12 | 6/15/20, [Insert Federal Register citation] | The cross reference to WAC 173-400-113(3) is interpreted to be NWCAA section 300.9(B)(3).
173-400-113 | New Sources in Attainment or Unclassifiable Areas—Review for Compliance with Regulations | 12/29/12 | 6/15/20, [Insert Federal Register citation] | Only subsection (4), otherwise NWCAA section 300 applies.
173-400-117 | Special Protection Requirements for Federal Class I Areas | 12/29/12 | 6/15/20, [Insert Federal Register citation]
173-400-118 | Designation of Class I, II, and III Areas | 12/29/12 | 6/15/20, [Insert Federal Register citation]
173-400-131 | Issuance of Emission Reduction Credits | 4/1/11 | 6/15/20, [Insert Federal Register citation]
173-400-136 | Use of Emission Reduction Credits (ERC) | 4/1/11 | 6/15/20, [Insert Federal Register citation]
173-400-151 | Retrofit Requirements for Visibility Protection | 2/10/05 | 6/15/20, [Insert Federal Register citation]
173-400-161 | Compliance Schedules | 3/22/91 | 6/2/95, 60 FR 28726
173-400-171 | Public Notice and Opportunity for Public Comment | 9/16/18 | 6/15/20, [Insert Federal Register citation] | Only subsection (6)(b), otherwise NWCAA section 305 applies.
173-400-190 | Requirements for Nonattainment Areas | 3/22/91 | 6/2/95, 60 FR 28726
173-400-200 | Creditable Stack Height and Dispersion Techniques | 2/10/05 | 6/15/20, [Insert Federal Register citation]
173-400-205 | Adjustment for Atmospheric Conditions | 3/22/91 | 6/2/95, 60 FR 28726
173-400-210 | Emission Requirements of Prior Jurisdictions | 3/22/91 | 6/2/95, 60 FR 28726
173-400-800 | Major Stationary Source and Major Modification in a Nonattainment Area | 4/1/11 | 6/15/20, [Insert Federal Register citation] | EPA did not review WAC 173-400-800 through 860 for consistency with the August 24, 2016 PM2.5 implementation rule (see the Federal Register of August 24, 2016); nor does NWCAA have an obligation to submit rule revisions to address the 2016 PM2.5 implementation rule at this time.
173-400-810 | Major Stationary Source and Major Modification Definitions | 7/1/16 | 6/15/20, [Insert Federal Register citation]
173-400-820 | Determining if a New Stationary Source or Modification to a Stationary Source is Subject to these Requirements | 12/29/12 | 6/15/20, [Insert Federal Register citation]
173-400-830 | Permitting Requirements | 7/1/16 | 6/15/20, [Insert Federal Register citation]
173-400-840 | Emission Offset Requirements | 7/1/16 | 6/15/20, [Insert Federal Register citation]
173-400-850 | Actual Emissions Plantwide Applicability Limitation (PAL) | 7/1/16 | 6/15/20, [Insert Federal Register citation]
173-400-860 | Public Involvement Procedures | 4/1/11 | 6/15/20, [Insert Federal Register citation]

* * * * *

(e) * * *

Table 1—Approved But Not Incorporated by Reference Regulations
State/local citation | Title/subject | State/local effective date | EPA approval date | Explanations
Washington Department of Ecology Regulations
173-400-220 | Requirements for Board Members | 3/22/91 | 6/02/95, 60 FR 28726. |
173-400-230 | Regulatory Actions | 3/20/93 | 6/02/95, 60 FR 28726. |
173-400-240 | Criminal Penalties | 3/22/91 | 6/02/95, 60 FR 28726. |
173-400-250 | Appeals | 9/20/93 | 6/02/95, 60 FR 28726. |
173-400-260 | Conflict of Interest | 7/01/16 | 10/06/16, 81 FR 69385. |
173-433-200 | Regulatory Actions and Penalties | 10/18/90 | 1/15/93, 58 FR 4578. |
Energy Facility Site Evaluation Council Regulations
463-78-135 | Criminal Penalties | 11/11/04 | 5/30/17, 82 FR 24533. |
463-78-140 | Appeals Procedure | 3/26/06 | 5/30/17, 82 FR 24533 | Except (3) and (4).
463-78-170 | Conflict of Interest | 11/11/04 | 5/30/17, 82 FR 24533. |
463-78-230 | Regulatory Actions | 11/11/04 | 5/30/17, 82 FR 24533. |
Benton Clean Air Agency Regulations
2.01 | Powers and Duties of the Benton Clean Air Agency (BCAA) | 12/11/14 | 11/17/15, 80 FR 71695. |
2.02 | Requirements for Board of Directors Members | 12/11/14 | 11/17/15, 80 FR 71695 | Replaces WAC 173-400-220.
2.03 | Powers and Duties of the Board of Directors | 12/11/14 | 11/17/15, 80 FR 71695. |
2.04 | Powers and Duties of the Control Officer | 12/11/14 | 11/17/15, 80 FR 71695. |
2.05 | Severability | 12/11/14 | 11/17/15, 80 FR 71695. |
2.06 | Confidentiality of Records and Information | 12/11/14 | 11/17/15, 80 FR 71695. |
Northwest Clean Air Agency Regulations
103 | Duties and Powers | 8/21/05 | 6/15/20, [Insert Federal Register citation] |
105 | Separability | 8/21/05 | 6/15/20, [Insert Federal Register citation] |
110 | Investigation and Studies | 8/21/05 | 6/15/20, [Insert Federal Register citation] |
111 | Interference or Obstruction | 8/21/05 | 6/15/20, [Insert Federal Register citation] |
112 | False and Misleading Oral Statement: Unlawful Reproduction or Alteration of Documents | 8/21/05 | 6/15/20, [Insert Federal Register citation] |
113 | Service of Notice | 12/22/07 | 6/15/20, [Insert Federal Register citation] |
114 | Confidential Information | 12/22/07 | 6/15/20, [Insert Federal Register citation] |
120 | Hearings | 12/22/07 | 6/15/20, [Insert Federal Register citation] |
123 | Appeal of Orders | 4/14/13 | 6/15/20, [Insert Federal Register citation] |
124 | Display of Orders, Certificates and Other Notices: Removal or Mutilation Prohibited | 8/21/05 | 6/15/20, [Insert Federal Register citation] |
131 | Notice to Violators | 4/14/13 | 6/15/20, [Insert Federal Register citation] |
132 | Criminal Penalty | 9/13/15 | 6/15/20, [Insert Federal Register citation] |
133 | Civil Penalty | 9/13/15 | 6/15/20, [Insert Federal Register citation] |
134 | Restraining Orders—Injunction | 8/21/05 | 6/15/20, [Insert Federal Register citation] |
135 | Assurance of Discontinuance | 12/22/07 | 6/15/20, [Insert Federal Register citation] |
303 | Work Done Without an Approval | 5/12/19 | 6/15/20, [Insert Federal Register citation] |
Olympic Region Clean Air Agency Regulations
8.1.6 | Penalties | 5/22/10 | 10/03/13, 78 FR 61188. |
Puget Sound Clean Air Agency Regulations
3.01 | Duties and Powers of the Control Officer | 11/01/99 | 4/22/20, 85 FR 22357. |
3.05 | Investigations by the Control Officer | 3/17/94 | 4/22/20, 85 FR 22357. |
3.07 | Compliance Tests | 5/01/06 | 4/22/20, 85 FR 22357. |
3.09 | Violations—Notice | 9/12/91 | 4/22/20, 85 FR 22357. |
3.11 | Civil Penalties | 11/01/19 | 4/22/20, 85 FR 22357. |
3.13 | Criminal Penalties | 9/12/91 | 4/22/20, 85 FR 22357. |
3.15 | Additional Enforcement | 9/12/91 | 4/22/20, 85 FR 22357. |
3.17 | Appeal of Orders | 11/14/98 | 4/22/20, 85 FR 22357. |
3.19 | Confidential Information | 9/12/91 | 4/22/20, 85 FR 22357. |
3.21 | Separability | 9/12/91 | 4/22/20, 85 FR 22357. |
Southwest Clean Air Agency Regulations
400-220 | Requirements for Board Members | 3/18/01 | 4/10/17, 82 FR 17136. |
400-230 | Regulatory Actions and Civil Penalties | 10/9/16 | 4/10/17, 82 FR 17136. |
400-240 | Criminal Penalties | 3/18/01 | 4/10/17, 82 FR 17136. |
400-250 | Appeals | 11/9/03 | 4/10/17, 82 FR 17136. |
400-260 | Conflict of Interest | 3/18/01 | 4/10/17, 82 FR 17136. |
400-270 | Confidentiality of Records and Information | 11/9/03 | 4/10/17, 82 FR 17136. |
400-280 | Powers of Agency | 3/18/01 | 4/10/17, 82 FR 17136. |
Spokane Regional Clean Air Agency Regulations
8.11 | Regulatory Actions and Penalties | 9/02/14 | 9/28/15, 80 FR 58216. |

* * * * *

3. Amend § 52.2498 by revising paragraph (a)(1) to read as follows:

§ 52.2498 Visibility protection.

(a) * * *

(1) Sources subject to the jurisdiction of local air authorities (except Benton Clean Air Agency, Northwest Clean Air Agency, Puget Sound Clean Air Agency, and Southwest Clean Air Agency);

* * * * *

[FR Doc. 2020-11237 Filed 6-12-20; 8:45 am]

BILLING CODE 6560-50-P